DEPARTMENT OF HEALTH AND HUMAN SERVICES

Health Resources and Services Administration

Advisory Committee on Infant Mortality; Notice of Meeting

In accordance with section 10(a)(2) of the Federal Advisory Committee Act (Pub. L. 92-463), notice is hereby given of the following meeting:

Name: Advisory Committee on Infant Mortality (ACIM).

Dates and Times: November 29, 2006, 9 a.m.-5 p.m.; November 30, 2006, 8:30 a.m.-3 p.m.

Place: Washington Marriott Hotel, 1221 22nd Street, NW., Washington, DC 20037, (202)-872-1500.

Status: The meeting is open to the public with attendance limited to space availability.

Purpose: The Committee provides advice and recommendations to the Secretary of Health and Human Services on the following issues: Department of Health and Human Services' programs that focus on reducing infant mortality and improving the health status of pregnant women and infants, factors affecting the continuum of care with respect to maternal and child health care, and outcomes following childbirth. It also includes strategies to coordinate the variety of Federal, State, local and private programs and efforts that are designed to deal with the health and social problems impacting infant mortality, and the implementation of the Healthy Start program and Healthy People 2010 infant mortality objectives.

Agenda: The committee plans to discuss the following topics: The Healthy Start Program and its National Evaluation, Breastfeeding Rates, Maternal and Child Health Bureau's Depression Activities, and Centers for Medicare & Medicaid Services Program update. The meeting allots substantial time for subcommittee and full committee discussions to formulate the ACIM issues agenda. The items on the agenda items are subject to change as the Committee continues to discuss priorities.

The Committee provides a 5-minute time limit for each public comment. Submit comments no later than November 17, 2006.

For Further Information Contact: Anyone requiring information regarding the Committee can contact Peter C. van Dyck, M.D., M.P.H., Executive Secretary, ACIM, Health Resources and Services Administration (HRSA), Room 18-05, Parklawn Building, 5600 Fishers Lane, Rockville, MD 20857, Telephone: (301) 443-2170.

Individuals who submit public comments or who have questions regarding the meeting and location can contact David S. de la Cruz, Ph.D., M.P.H., HRSA, Maternal and Child Health Bureau, telephone: (301) 443-6332, e-mail: David.delaCruz@hrsa.hhs.gov.

Dated: November 17, 2006.
Cheryl R. Dammons,
Director, Division of Policy Review and Coordination.

[FR Doc. E6-20120 Filed 11-27-06; 8:45 am]

BILLING CODE 4165-15-P